DEPARTMENT OF TRANSPORTATION

Federal Aviation Administration

14 CFR Part 97

[Docket No. 30900; Amdt. No. 3535]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 29, 2013. The compliance date for each SIAP, associated Takeoff Minimums, and ODP is specified in the amendatory provisions.

The incorporation by reference of certain publications listed in the regulations is approved by the Director of the Federal Register as of May 29, 2013.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169; or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on May 10, 2013.
John M. Allen
Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 27 JUNE 2013

Deadhorse, AK, Deadhorse, LOC/DME BC RWY 23, Amdt 11, CANCELED

Huntsville, AR, Huntsville Muni, RNAV (GPS) RWY 12, Orig

Huntsville, AR, Huntsville Muni, RNAV (GPS) RWY 30, Orig

Huntsville, AR, Huntsville Muni, Takeoff Minimums and Obstacle DP, Orig

Huntsville, AR, Huntsville Muni, VOR/DME RWY 12, Amdt 2

Springdale, AR, Springdale Muni, RNAV (GPS) RWY 18, Amdt 1C

Springdale, AR, Springdale Muni, RNAV (GPS) RWY 36, Amdt 1B

Colorado Springs, CO, City Of Colorado Springs Muni, Takeoff Minimums and Obstacle DP, Amdt 11

Pueblo, CO, Pueblo Memorial, GPS RWY 17, Orig-C, CANCELED

Pueblo, CO, Pueblo Memorial, GPS RWY 35, Orig-B, CANCELED

Pueblo, CO, Pueblo Memorial, ILS OR LOC/DME RWY 8L, Amdt 23, CANCELED

Pueblo, CO, Pueblo Memorial, ILS OR LOC/DME RWY 8R, Orig

Pueblo, CO, Pueblo Memorial, ILS OR LOC/DME RWY 26L, Orig

Pueblo, CO, Pueblo Memorial, ILS OR LOC/DME RWY 26R, Amdt 14, CANCELED

Pueblo, CO, Pueblo Memorial, RNAV (GPS) RWY 8L, Orig-A, CANCELED

Pueblo, CO, Pueblo Memorial, RNAV (GPS) RWY 8R, Orig

Pueblo, CO, Pueblo Memorial, RNAV (GPS) RWY 17, Orig

Pueblo, CO, Pueblo Memorial, RNAV (GPS) RWY 26L, Orig

Pueblo, CO, Pueblo Memorial, RNAV (GPS) RWY 26R, Amdt 1B, CANCELED

Pueblo, CO, Pueblo Memorial, RNAV (GPS) RWY 35, Orig

Pueblo, CO, Pueblo Memorial, Takeoff Minimums and Obstacle DP, Amdt 6

Pueblo, CO, Pueblo Memorial, VOR/DME RWY 26L, Orig

Pueblo, CO, Pueblo Memorial, VOR/DME RWY 26R, Amdt 28, CANCELED

Atlanta, GA, Hartsfield—Jackson Atlanta Intl, ILS PRM RWY 8L, ILS PRM RWY 8L (SA CAT I), ILS PRM RWY 8L (CAT II), ILS PRM RWY 8L (CAT III) (SIMULTANEOUS CLOSE PARALLEL), Amdt 1A

Atlanta, GA, Hartsfield—Jackson Atlanta Intl, ILS PRM RWY 8R (SIMULTANEOUS CLOSE PARALLEL), Amdt 1A

Atlanta, GA, Hartsfield—Jackson Atlanta Intl, ILS PRM RWY 9L (SIMULTANEOUS CLOSE PARALLEL), Amdt 1A

Atlanta, GA, Hartsfield—Jackson Atlanta Intl, ILS PRM RWY 9R, ILS PRM RWY 9R (SA CAT I), ILS PRM RWY 9R (CAT II), ILS PRM RWY 9R (CAT III) (SIMULTANEOUS CLOSE PARALLEL), Amdt 1A

Atlanta, GA, Hartsfield—Jackson Atlanta Intl, ILS PRM RWY 10, ILS PRM RWY 10 (SA CAT I), ILS PRM RWY 10 (CAT II), ILS PRM RWY 10 (CAT III) (SIMULTANEOUS CLOSE PARALLEL), Amdt 3A

Atlanta, GA, Hartsfield—Jackson Atlanta Intl, ILS PRM RWY 26L (SIMULTANEOUS CLOSE PARALLEL), Amdt 1A

Atlanta, GA, Hartsfield—Jackson Atlanta Intl, ILS PRM RWY 26R, ILS PRM RWY 26R (SA CAT I), ILS PRM RWY 26R (SA CAT II) (SIMULTANEOUS CLOSE PARALLEL), Amdt 2A

Atlanta, GA, Hartsfield—Jackson Atlanta Intl, ILS PRM RWY 27L, ILS PRM RWY 27L (SA CAT I), ILS PRM RWY 27L (CAT II), (SIMULTANEOUS CLOSE PARALLEL), Amdt 2A

Atlanta, GA, Hartsfield—Jackson Atlanta Intl, ILS PRM RWY 27R (SIMULTANEOUS CLOSE PARALLEL), Amdt 1A

Atlanta, GA, Hartsfield—Jackson Atlanta Intl, ILS PRM RWY 28, ILS PRM RWY 28 (SA CAT I), ILS PRM RWY 28 (CAT II) (SIMULTANEOUS CLOSE PARALLEL), Amdt 3A

Sandersville, GA, Kaolin Field, VOR/DME-A, Amdt 6, CANCELED

Cairo, IL, Cairo Rgnl, NDB RWY 14, Amdt 2

Cairo, IL, Cairo Rgnl, RNAV (GPS) RWY 32, Orig

Cairo, IL, Cairo Rgnl, Takeoff Minimums and Obstacle DP, Amdt 1

Canton, IL, Ingersoll, NDB OR GPS RWY 36, Amdt 2B, CANCELED

Chicago, IL, Chicago O'Hare Intl, RNAV (GPS) RWY 9R, Amdt 3A

Fort Wayne, IN, Fort Wayne Intl, ILS OR LOC RWY 32, Amdt 30

Fort Wayne, IN, Fort Wayne Intl, LOC BC RWY 14, Amdt 15

Hill City, KS, Hill City Muni, RNAV (GPS) RWY 18, Amdt 1

Hill City, KS, Hill City Muni, RNAV (GPS) RWY 36, Amdt 1

Hill City, KS, Hill City Muni, Takeoff Minimums and Obstacle DP, Amdt 1

Bedford, MA, Laurence G Hanscom Fld, Takeoff Minimums and Obstacle DP, Amdt 6

South Haven, MI, South Haven Area Rgnl, Takeoff Minimums and Obstacle DP, Amdt 4

Crookston, MN, Crookston Muni Kirkwood Fld, VOR/DME RWY 13, Orig

Morris, MN, Morris Muni—Charlie Schmidt Fld, RNAV (GPS) RWY 14, Amdt 1

Morris, MN, Morris Muni—Charlie Schmidt Fld, RNAV (GPS) RWY 32, Amdt 1

St Louis, MO, Spirit of St Louis, Takeoff Minimums and Obstacle DP, Amdt 2

Starkville, MS, George M Bryan, RNAV (GPS) RWY 36, Amdt 3A

Dillon, MT, Dillon, RNAV (GPS) RWY 17, Orig

Dillon, MT, Dillon, Takeoff Minimums and Obstacle DP, Amdt 3

Dillon, MT, Dillon, VOR-A, Amdt 8

Dillon, MT, Dillon, VOR/DME-B, Amdt 2

Asheville, NC, Asheville Rgnl, Takeoff Minimums and Obstacle DP, Amdt 9

Carrington, ND, Carrington Muni, GPS RWY 31, Orig, CANCELED

Carrington, ND, Carrington Muni, RNAV (GPS) RWY 31, Orig

Carrington, ND, Carrington Muni, Takeoff Minimums and Obstacle DP, Orig

Rolla, ND, Rolla Muni, GPS RWY 32, Orig-A, CANCELED

Rolla, ND, Rolla Muni, RNAV (GPS) RWY 32, Orig

Syracuse, NY, Syracuse Hancock Intl, RNAV (GPS) Z RWY 10, Amdt 2A

Syracuse, NY, Syracuse Hancock Intl, RNAV (GPS) Z RWY 28, Amdt 2A

Syracuse, NY, Syracuse Hancock Intl, RNAV (RNP) Y RWY 10, Orig

Syracuse, NY, Syracuse Hancock Intl, RNAV (RNP) Y RWY 28, Orig

Redmond, OR, Roberts Field, ILS OR LOC/DME RWY 22, Amdt 3

Aguadilla, PR, Rafael Hernandez, RNAV (GPS) RWY 26, Orig

Aguadilla, PR, Rafael Hernandez, VOR/DME OR TACAN RWY 26, Orig

Charleston, SC, Charleston AFB/Intl, RNAV (GPS) Y RWY 3, Amdt 2A

Charleston, SC, Charleston AFB/Intl, RNAV (GPS) Y RWY 21, Amdt 2A

Charleston, SC, Charleston AFB/Intl, RNAV (RNP) Z RWY 3, Orig-A

Charleston, SC, Charleston AFB/Intl, RNAV (RNP) Z RWY 15, Orig-A

Charleston, SC, Charleston AFB/Intl, RNAV (RNP) Z RWY 21, Orig-A

Big Spring, TX, Big Spring Mc Mahon-Wrinkle, RNAV (GPS) RWY 6, Orig

Big Spring, TX, Big Spring Mc Mahon-Wrinkle, RNAV (GPS) RWY 24, Orig

Salt Lake City, UT, Salt Lake City Intl, ILS OR LOC RWY 34L, ILS RWY 34L (SA CAT I), ILS RWY 34L (CAT II), ILS RWY 34L (CAT III), Amdt 3

Salt Lake City, UT, Salt Lake City Intl, ILS OR LOC RWY 34R, ILS RWY 34R (SA CAT I), ILS RWY 34R (CAT II), ILS RWY 34R (CAT III), Amdt 4

Salt Lake City, UT, Salt Lake City Intl, RNAV (GPS) RWY 34L, Amdt 1

Salt Lake City, UT, Salt Lake City Intl, RNAV (GPS) RWY 34R, Amdt 1

Pasco, WA, Tri-Cities, Takeoff Minimums and Obstacle DP, Amdt 7

Wilbur, WA, Wilbur, RNAV (GPS)-A, Orig

Effective 25 JULY 2013

Santa Rosa, CA, Charles M. Schulz—Sonoma County, RNAV (GPS) RWY 14, Amdt 1B

Cleveland, OH, Cleveland-Hopkins Intl, ILS OR LOC RWY 6L, ILS RWY 6L (CAT II), ILS RWY 6L (CAT III), Amdt 2D

[FR Doc. 2013-12318 Filed 5-28-13; 8:45 am]

BILLING CODE 4910-13-P